ENVIRONMENTAL PROTECTION AGENCY

[EPA-HQ-OPP-2024-0093; FRL-12542-02-OCSPP]

Cancellation Order for Certain Pesticide Registrations and/or Amendments To Terminate Uses (From August 11, 2025, Notice)

AGENCY: Environmental Protection Agency (EPA).

ACTION: Notice.

SUMMARY: This notice announces EPA's order for the cancellations and/or amendments to terminate uses, voluntarily requested by the registrants and accepted by the Agency, pursuant to the Federal Insecticide, Fungicide, and Rodenticide Act (FIFRA). This cancellation order follows an August 11, 2025, Federal Register Notice of Receipt of Requests from the registrants listed in Table 3 of Unit II, to voluntarily cancel and/or amend to terminate uses of these product registrations. In the August 11, 2025, notice, EPA indicated that it would issue an order implementing the cancellations and/or amendments to terminate uses, unless the Agency received substantive comments within the 30-day comment period that would merit its further review of these requests, or unless the registrants withdrew their requests. The Agency received one anonymous comment on the notice. Further, the registrants did not withdraw their requests. The registrations 279-9546, 94396-15 and 94396-25 were already cancelled on a separate notice; therefore, they have been excluded from this notice. Accordingly, EPA hereby issues in this notice a cancellation order granting the requested cancellations and/or amendments to terminate uses. Any distribution, sale, or use of the products subject to this cancellation order is permitted only in accordance with the terms of this order, including any existing stocks provisions.

DATES: The cancellations and/or amendments are effective February 10, 2026.

FOR FURTHER INFORMATION CONTACT: Christopher Green, Regulatory & Information Services Division, Office of Mission Critical Operations, Environmental Protection Agency, 1200 Pennsylvania Ave. NW, Washington, DC 20460-0001; telephone number: (202) 566-2707; email address: green.christopher@epa.gov.

SUPPLEMENTARY INFORMATION:

I. General Information

A. Does this action apply to me?

This action is directed to the public in general and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2024-0093, is available at https://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744 and the telephone number for the OPP Docket is (202) 566-1744. Please review the visitor instructions and additional information about the docket available at https://www.epa.gov/dockets.

II. What action is the Agency taking?

This notice announces the cancellations and/or amendments to terminate uses, as requested by registrants, of products registered under FIFRA section 3 (7 U.S.C. 136a). These registrations are listed in sequence by registration number in Tables 1 and 2 of this unit.

Table 1—Product Cancellations
Registration No. | Company No. | Product name | Active ingredients
228-335 | 228 | Riverdale Horsepower 8000 Lawn Weed Killer | Dicamba, dimethylamine salt (029802/2300-66-5)—(1.08%), MCPA, dimethylamine salt (030516/2039-46-5)—(10.97%), Triclopyr, triethylamine salt (116002/57213-69-1)—(1.25%).
228-371 | 228 | Riverdale MTCA Premium Selective Herbicide | Clopyralid (117403/1702-17-6)—(1.3%), MCPA, dimethylamine salt (030516/2039-46-5)—(37.9%), Triclopyr, triethylamine salt (116002/57213-69-1)—(3.8%).
228-420 | 228 | Chaser Ultra 2 Selective Herbicide | 2,4-DP-p, DMA salt (031403/104786-87-0)—(8.1%), Fluroxypyr 1-methylheptyl ester (128968/81406-37-3)—(9.78%), MCPA, dimethylamine salt (030516/2039-46-5)—(41.6%).
228-424 | 228 | Horsepower Concentrate | Dicamba, dimethylamine salt (029802/2300-66-5)—(1.35%), MCPA, dimethylamine salt (030516/2039-46-5)—(13.72%), Triclopyr, triethylamine salt (116002/57213-69-1)—(1.56%).
279-3558 | 279 | Accurate Extra Herbicide | Metsulfuron-methyl (122010/74223-64-6)—(15%), Thifensulfuron (128845/79277-27-3)—(37.5%), Tribenuron-methyl (128887/101200-48-0)—(18.75%).
499-556 | 499 | TC-326 | Chlorfenapyr (129093/122453-73-0)—(.5%), Pyriproxyfen (129032/95737-68-1)—(.05%).
5383-146 | 5383 | Troyshield FSP40 | Sodium pyrithione (088004/15922-78-8)—(40%).
5481-477 | 5481 | RID-A-VEC | Metam-sodium (039003/137-42-8)—(42%).
7969-324 | 7969 | Kixor Herbicide | Saflufenacil (118203/372137-35-4)—(29.74%).
7969-332 | 7969 | Optill Pro Powered by Kixor Herbicide | Imazethapyr (128922/81335-77-5)—(50.2%), Saflufenacil (118203/372137-35-4)—(17.8%), dimethenamid-P (120051/163515-14-8)—(63.9%).
10779-1 | 10779 | Instant Power Sewer Line Root Destroyer | Copper sulfate pentahydrate (024401/7758-99-8)—(99%).
34688-86 | 34688 | Triameen Y12D Preservative | 1,3-Propanediamine, N-(3-aminopropyl)-N-dodecyl- (067300/2372-82-9)—(91.4%).
67979-9 | 67979 | COT102 X COT67B Cotton Seed | Bacillus thuringiensis FLCry1Ab protein and the genetic material necessary for its production (vector pNOV4641/pNOV1914) in Event COT67B cotton (SYN-IR67B-1) (016486/)—(.0041%), Bacillus thuringiensis Vip3Aa19 protein and the genetic material necessary for its production (vector pCOT1) in Event COT102 cotton (SYN-IR102-7) (016484/)—(.0036%).
67979-21 | 67979 | COT67B Cotton | Bacillus thuringiensis FLCry1Ab protein and the genetic material necessary for its production (vector pNOV4641/pNOV1914) in Event COT67B cotton (SYN-IR67B-1) (016486/)—(.0029%).
70060-12 | 70060 | CSR-2 | Sodium chlorite (020502/7758-19-2)—(5%).
70060-13 | 70060 | CSR-1 | Sodium chlorite (020502/7758-19-2)—(5%).
70060-32 | 70060 | Aseptrol CSR Wax Paper | Sodium chlorite (020502/7758-19-2)—(.63%).
72056-2 | 72056 | Clethodim 2EC Herbicide | Clethodim (121011/99129-21-2)—(26.4%).
72056-3 | 72056 | Clethodim Technical (37% MUP) | Clethodim (121011/99129-21-2)—(37%).
82633-66 | 82633 | Sharda Thiodicarb Technical | Thiodicarb (114501/59669-26-0)—(99%).
87243-4 | 87243 | Amiflex | Amitraz (106201/33089-61-1)—(2%).
100522-11 | 100522 | SA Pendimethalin Technical | Pendimethalin (108501/40487-42-1)—(97.2%).
AK-220001 | 67690 | Sonar Genesis | Fluridone (112900/59756-60-4)—(6.3%).
IN-150001 | 279 | AIM EC | Carfentrazone-ethyl (128712/128639-02-1)—(22.3%).
LA-210003 | 5481 | Envoke Herbicide | 2-Pyridinesulfonamide, N-[[(4,6-dimethoxy-2-pyrimidinyl)amino]carbonyl]-3-(2,2,2-trifluoroethoxy)-, monosodium salt, monohydrate (119009/290332-10-4)—(75%).
OR-150009 | 8033 | Topsin M WSB | Thiophanate-methyl (102001/23564-05-8)—(70%).
OR-170001 | 70506 | Penncozeb 75 DF | Mancozeb (014504/8018-01-7)—(75%).
OR-190013 | 100 | Northstar Herbicide | Dicamba, sodium salt (029806/1982-69-0)—(43.9%), Primisulfuron-methyl (128973/86209-51-0)—(7.5%).
VT-160001 | 100 | Reflex Herbicide | Sodium salt of fomesafen (123802/108731-70-0)—(22.8%).
WA-180008 | 10163 | GWN-10073-10120 | Copper hydroxide (023401/20427-59-2)—(5%).

Table 2—Product Registration Amendments To Terminate Uses
Registration No. | Company No. | Product name | Active ingredient | Uses to be terminated
42750-58 | 42750 | Glyphosate 62% | Glyphosate, isopropylamine salt (103601/38641-94-0)—(62%) | Tobacco use.
85678-4 | 85678 | Ethephon 78% MUP | Ethephon (099801/16672-87-0)—(77.6%) | Residential turf/lawns; institutional turf; parks, recreational fields & sod farms use.

Table 3 of this unit includes the names and addresses of record for all registrants of the products in Tables 1 and 2 of this unit, in sequence by EPA company number. This number corresponds to the first part of the EPA registration numbers of the products listed above.

Table 3—Registrants of Cancelled and/or Amended Products
Company No. | Company name and address
100 | Syngenta Crop Protection, LLC, 410 Swing Road, P.O. Box 18300, Greensboro, NC 27419-8300.
228 | NuFarm Americas, Inc., 4000 Aerial Center Pkwy., Suite 101, Morrisville, NC 27560.
279 | FMC Corporation, 2929 Walnut Street, Philadelphia, PA 19104.
499 | BASF Agricultural Solutions US, LLC, 2 T.W. Alexander Drive, P.O. Box 13528, Research Triangle Park, NC 27709.
5383 | Troy Chemical Corporation, Agent Name: Troy Corporation, 8 Vreeland Road, Florham Park, NJ 07932.
5481 | AMVAC Chemical Corporation, 4695 MacArthur Court, Suite 1200, Newport Beach, CA 92660-1706.
7969 | BASF Agricultural Solutions US, LLC, Agricultural Products, 2 T.W. Alexander Drive, Research Triangle Park, NC 27709.
8033 | Nippon Soda Co., Ltd., Agent Name: Nisso America, Inc., 379 Thornall Street, 5th Floor, Edison, NJ 08837.
10163 | Gowan Company, LLC, 370 S. Main St., Yuma, AZ 85366.
10779 | Instant Power Corporation, 1255 Viceroy, Dallas, TX 75247.
34688 | Nouryon Surface Chemistry, LLC, 100 Matsonford Road, Building 5, Radnor, PA 19087.
42750 | Albaugh, LLC, 1525 NE 36th Street, Ankeny, IA 50021.
67690 | Sepro Corporation, 11550 N. Meridian Street, Suite 600, Carmel, IN 46032.
67979 | Syngenta Seeds, LLC—Field Crops—NAFTA, 9 Davis Drive, Research Triangle Park, NC 27709.
70060 | BASF Corporation, Attention: Janet Cerra, 100 Park Avenue, Florham Park, NJ 07932.
70506 | UPL NA, Inc., P.O. Box 12219, Research Triangle Park, NC 27709.
72056 | Nisso BASF Agro Co., Ltd., Agent Name: Compliance Services International, 7501 Bridgeport Way West, Lakewood, WA 98499-2423.
82633 | Sharda Cropchem Limited, Agent Name: Wagner Regulatory Associates, Inc., P.O. Box: 640, Hockessin, DE 19707-0640.
85678 | RedEagle International, LLC, Agent Name: Wagner Regulatory Associates, Inc., 7217 Lancaster Pike, Suite A, P.O. Box 640, Hockessin, DE 19707.
87243 | Veto-Pharma S.A.S., Agent Name: Technology Sciences Group, Inc., 1150 18th St. NW, Suite 475, Washington, DC 20036.
100522 | Sullution Agro, LLC, Agent Name: Pyxis Regulatory Consulting, Inc., 535 Dock Street, Suite 211, Tacoma, WA 98402.

III. Summary of Public Comments Received and Agency Response to Comments

During the public comment period provided, EPA received one anonymous comment in response to the August 11, 2025, Federal Register notice announcing the Agency's receipt of the requests for voluntary cancellations and/or amendments to terminate uses of products listed in Tables 1 and 2 of Unit II. The comment states that this action should terminate the pesticides listed in Unit II and remove the current registrants that are currently listed as being on the list dispensing the Unit II Chemicals. The mislabeled chemicals and tainted products pose potential health risks and could harm our children and pets. The Agency's response is as follows. As noted in the order, the pesticide products listed in Table 1, and the specified uses of the products listed in Table 2 of Unit II are being canceled pursuant to the registrant's voluntary request for cancelation. This action does not address any potential health or environmental risks from pesticide use. However, pursuant to FIFRA and the FFDCA, the EPA continually evaluates existing and proposed pesticide products to ensure that, when applied as instructed, those pesticides will not generally cause unreasonable risk to human health or the environment.

IV. Cancellation Order

Pursuant to FIFRA section 6(f) (7 U.S.C. 136d(f)(1)), EPA hereby approves the requested cancellations and/or amendments to terminate uses of registrations identified in Tables 1 and 2 of Unit II. Accordingly, the Agency hereby orders that the product registrations identified in Tables 1 and 2 of Unit II, are canceled and/or amended to terminate the affected uses. The effective date of the cancellations that are subject of this notice is February 10, 2026. Any distribution, sale, or use of existing stocks of the products identified in Tables 1 and 2 of Unit II, in a manner inconsistent with any of the provisions for disposition of existing stocks set forth in Unit VI, will be a violation of FIFRA.

V. What is the Agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register of August 11, 2025 (90 FR 38645) (FRL-12542-01-OCSPP). The comment period closed on September 10, 2025.

VI. Provisions for Disposition of Existing Stocks

Existing stocks are those stocks of registered pesticide products which are currently in the United States, and which were packaged, labeled, and released for shipment prior to the effective date of the action. The existing stocks provision for the products subject to this order is as follows.

For: 5383-146

For 5383-146, Troy Chemical Corporation, the registrant of the product subject to this cancellation notice, requested an existing stocks provision allowing the continued sale and distribution of the affected product until August 10, 2027, a period of 18 months after publication of the cancellation order in this Federal Register. Thereafter, the registrant is prohibited from selling or distributing product 5383-146 identified in Table 1 of Unit II, except for export in accordance with FIFRA section 17 (7 U.S.C. 136o) or for proper disposal.

For all other voluntary cancellations, the registrants may continue to sell and distribute existing stocks of products listed in Table 1 until February 10, 2027, which is 1 year after publication of this cancellation order in the Federal Register. Thereafter, the registrants are prohibited from selling or distributing products listed in Table 1 of Unit II, except for export in accordance with FIFRA section 17 (7 U.S.C. 136o) or for proper disposal.

Now that EPA has approved product labels reflecting the requested amendments to terminate uses, registrants are permitted to sell or distribute products listed in Table 2 of Unit II, under the previously approved labeling until August 10, 2027, a period of 18 months after publication of the cancellation order in this Federal Register, unless other restrictions have been imposed. Thereafter, registrants will be prohibited from selling or distributing the products whose labels include the terminated uses identified in Table 2 of Unit II, except for export consistent with FIFRA section 17 or for proper disposal.

Persons other than the registrant may sell, distribute, or use existing stocks of canceled products and/or products whose labels include the terminated uses until supplies are exhausted, provided that such sale, distribution, or use is consistent with the terms of the previously approved labeling on, or that accompanied, the canceled products and/or terminated uses.

Authority: 7 U.S.C. 136 et seq.

Dated: January 29, 2026.
Charles Smith,
Director, Registration Division, Office of Pesticide Programs.

[FR Doc. 2026-02569 Filed 2-9-26; 8:45 am]

BILLING CODE 6560-50-P